DEPARTMENT OF LABOR

Employment and Training Administration

[TA-W-81,702; TA-W-81,702A]

Verizon Business Networks Services, Inc., Specialist-Tech Customer Service, Philadelphia, PA; Verizon Business Networks Services, Inc., Specialist-Tech Customer Service, Tampa, Florida; Amended Certification Regarding Eligibility To Apply for Worker Adjustment Assistance

In accordance with Section 223 of the Trade Act of 1974, as amended (“Act”), 19 U.S.C. 2273, the Department of Labor issued a Certification of Eligibility to Apply for Worker Adjustment Assistance on September 6, 2012, applicable to workers of Verizon Business Networks Services, Inc., Order Management Division, Philadelphia, Pennsylvania and Verizon Business Networks Services, Inc., Order Management Division, Tampa, Florida. The workers' firm is engaged in activities related to telecommunications services. The worker group supplies order management services. The notice was published in the Federal Register on September 21, 2012 (77 FR 58583).

At the request of a company official, the Department reviewed the certification for workers of the subject firm. New information from the company, shows that the correct name of the subject firm in its' entirety should read Verizon Business Networks Services, Inc., Specialist-Tech Customer Service, Philadelphia, Pennsylvania and Verizon Business Networks Services, Inc., Specialist-Tech Customer Service, Tampa Florida.

Company information shows that the Specialist-Tech Customer Service is the intended worker group to be covered by this investigation. Therefore, as stated in the original certification, the Order Management Division is not included in this certification decision.

Accordingly, the Department is amended this certification to correct the name of the appropriate subdivision to read Verizon Business Networks Services, Inc., Specialist-Tech Customer Service, Philadelphia, Pennsylvania and Verizon Business Networks Service, Inc., Specialist-Tech Customer Service, Tampa, Florida.

The intent of the Department's certification is to include all workers of the subject firm who were adversely affected by the shift in order management services to a foreign country.

The amended notice applicable to TA-W-81,702 and TA-W-81,702A are hereby issued as follows:

All workers from Verizon Business Network Services, Inc., Specialist-Tech Customer Service, Philadelphia, Pennsylvania (TA-W-81,702) and Verizon Business Network Services, Inc., Specialist-Tech Customer Service, Tampa, Florida (TA-W-81,702A), who became totally or partially separated from employment on or after June 8, 2011, through September 6, 2014, and all workers in the group threatened with total or partial separation from employment on date of certification through two years from the date of certification, are eligible to apply for adjustment assistance under Chapter 2 of Title II of the Trade Act of 1974, as amended.

Signed at Washington, DC this 14th day of February 2013.
Michael W. Jaffe,
Certifying Officer, Office of Trade Adjustment Assistance.

[FR Doc. 2013-04950 Filed 3-4-13; 8:45 am]

BILLING CODE 4510-FN-P